NATIONAL AERONAUTICS AND SPACE ADMINISTRATION

[Notice (17-005)]

NASA Advisory Council; Science Committee; Ad Hoc Task Force on Big Data; Meeting

AGENCY: National Aeronautics and Space Administration.

ACTION: Notice of meeting.

SUMMARY: In accordance with the Federal Advisory Committee Act, Public Law 92-463, as amended, the National Aeronautics and Space Administration (NASA) announces a meeting of the Ad Hoc Big Data Task Force. This task force reports to the NASA Advisory Council's Science Committee. The meeting will be held for the purpose of soliciting and discussing, from the scientific community and other persons, scientific and technical information relevant to big data.

DATES: Monday, March 6, 2017, 9:00 a.m.-5:00 p.m.; and Tuesday, March 7, 2017, 9:00 a.m.-5:00 p.m., Local Time.

ADDRESSES: NASA Headquarters, Room 5H41-A, 300 E Street SW., Washington, DC 20546.

FOR FURTHER INFORMATION CONTACT: Ms. KarShelia Henderson, Science Mission Directorate, NASA Headquarters, Washington, DC 20546, (202) 358-2355, fax (202) 358-2779, or khenderson@nasa.gov.

SUPPLEMENTARY INFORMATION: The meeting will be open to the public up to the capacity of the room. The meeting will also be available telephonically and by WebEx. You must use a touch tone phone to participate in this meeting. Any interested person may call the USA toll free conference call number 1-888-324-9653 or toll number 1-312-470-7237, passcode 3883300, to participate in this meeting by telephone for both days. The WebEx link is https://nasa.webex.com/; the meeting number is 997 477 523 and the password is BDTFmtg#4 (case sensitive) for both days. The agenda for the meeting includes the following topics:

—NASA Science Mission Data Repositories

—Current Big Data Efforts at NASA

—Federal Big Data Initiatives

Attendees will be requested to sign a register and to comply with NASA Headquarters security requirements, including the presentation of a valid picture ID to Security before access to NASA Headquarters. Due to the Real ID Act, any attendees with drivers licenses issued from non-compliant states must present a second form of ID. Non-compliant states are: Maine, Minnesota, Missouri, Montana, and Washington. Foreign nationals attending this meeting will be required to provide a copy of their passport and visa in addition to providing the following information no less than 10 days prior to the meeting: Full name; gender; date/place of birth; citizenship; passport information (number, country, telephone); visa information (number, type, expiration date); employer/affiliation information (name of institution, address, country, telephone); title/position of attendee. To expedite admittance, attendees that are U.S. citizens and Permanent Residents (green card holders) are requested to provide full name and citizenship status 3 working days in advance. Information should be sent to Ms. KarShelia Henderson, via email at khenderson@nasa.gov or by fax at (202) 358-2779. It is imperative that the meeting be held on these dates to the scheduling priorities of the key participants.

Patricia D. Rausch,
Advisory Committee Management Officer, National Aeronautics and Space Administration.

[FR Doc. 2017-02600 Filed 2-7-17; 8:45 am]

BILLING CODE 7510-13-P